DEPARTMENT OF COMMERCE

National Oceanic and Atmospheric Administration

RIN 0648-XW67

Mid-Atlantic Fishery Management Council; Public Hearings

AGENCY: National Marine Fisheries Service (NMFS), National Oceanic and Atmospheric Administration (NOAA), Commerce.

ACTION: Notice of public meetings.

SUMMARY: The Mid-Atlantic Fishery Management Council will hold scoping hearings for an amendment (Amendment 14) to the Fishery Management Plan (FMP) for Atlantic Mackerel, Squid, and Butterfish (MSB).

DATES: See SUPPLEMENTARY INFORMATION for specific dates of hearings.

ADDRESSES: See SUPPLEMENTARY INFORMATION for hearing addresses.

FOR FURTHER INFORMATION CONTACT: Daniel T. Furlong, Executive Director, Mid-Atlantic Fishery Management Council, 800 N. State Street, Suite 201, Dover, DE 19901; telephone: (302) 526-5255.

SUPPLEMENTARY INFORMATION:

•June 14, 2010, 7 p.m. - 9 p.m.: Hilton Garden Inn, Providence Airport/Warwick, One Thuber Street, Warwick, RI 02886, telephone: (401) 734-9600;

•June 15, 2010, 7 p.m. - 9 p.m.: Holiday Inn Express East End, 1707 Old Country Rd., Route 58, Riverhead, NY 11901, telephone: (631) 548-1000;

•June 17, 2010, 7 p.m. - 9 p.m.: Congress Hall, 251 Beach Ave, Cape May, NJ 08204, telephone: (609) 884-6592; and

•June 23, 2010, 7 p.m. - 9 p.m.: Virginia Marine Resources Commission, 2600 Washington Avenue, 3rd Floor, Newport News, VA 23607.

There will also be a separate written comment period for Amendment 14 scoping, which will be described in an upcoming Federal Register announcement for the “Notice of Intent (NOI)” to develop an EIS that accompanies Amendment 14. That NOI will also contain information regarding these scoping hearings, but to provide the public with sufficient advance notice this notice is being published now since the NOI will likely publish shortly before the scoping hearings.

More details on the topics addressed in this supplementary information section may be found in the Amendment 14 scoping document. The Amendment 14 scoping document is available by contacting Dan Furlong (see above) or online at: http://www.mafmc.org/fmp/msb.htm.

The Council initiated Amendment 14 to the MSB FMP for two reasons: (1) There is concern by some stakeholders that there may be too much capacity in the squid (both Loligo and Illex) fisheries and that uncontrolled activation of latent capacity could cause negative economic effects for participants. Implementation of catch shares may address some of these concerns; and (2) There is concern by some stakeholders that more should be done to monitor and/or minimize the incidental catch of river herrings (blueback and alewife) and shads (American and hickory) in the MSB fisheries, especially given the currently low levels of monitoring in the MSB fisheries and the likely poor stock status of shads and river herrings.

Related to the above concerns, this amendment may address one or more of the following issues: (1) The implementation of catch share systems for the squid fisheries to further refine the existing management process; the biological and socio-economic outcomes of a catch share system and how such outcomes depend on specific program design features; the possible need for changes to existing information collection processes if a catch share system is implemented; and (2) The need for additional fishery monitoring in order to determine the significance of river herring and shad incidental catch in the MSB fisheries; and the effectiveness and impacts of possible management measures to minimize bycatch and/or incidental catch of river herrings and shads in the MSB fisheries.

The Council will first gather information during the scoping period. This is the first and best opportunity for members of the public to raise concerns related to the scope of issues that will be considered in Amendment 14. The Council needs your input both to identify management issues and develop effective alternatives. Your comments early in the amendment development process will help us address issues of public concern in a thorough and appropriate manner. Comments can be made during the scoping hearings as described above or in writing - the written comment period will be announced soon. If the Council decides to move forward with Amendment 14, the Council will develop a range of management alternatives to be considered and prepare a draft Environmental Impact Statement (DEIS) to analyze the impacts of the management alternatives being considered as required by the National Environmental Policy Act (NEPA). Following a review of any comments on the DEIS, the Council will then choose preferred management measures for submission with the Final EIS to the Secretary of Commerce for publishing of a proposed and then final rule, both of which have additional comment periods.

Special Accommodations

The hearings are physically accessible to people with disabilities. Requests for sign language interpretation or other auxiliary aids should be directed to M. Jan Saunders at the Mid-Atlantic Council Office, (302) 526-5251, at least 5 days prior to the meeting date.

Dated: May 24, 2010.
Tracey L. Thompson,
Acting Director, Office of Sustainable Fisheries, National Marine Fisheries Service.

[FR Doc. 2010-12776 Filed 5-26-10; 8:45 am]

BILLING CODE 3510-22-S